DEPARTMENT OF THE INTERIOR

National Park Service

[NPS-WASO-NAGPRA-12208; 2200-1100-665]

Notice of Inventory Completion: National Guard Bureau/A7AN, Air National Guard, Joint Base Andrews, MD

AGENCY: National Park Service, Interior.

ACTION: Notice.

SUMMARY: The National Guard Bureau, Air National Guard, Joint Base Andrews, MD, has completed an inventory of human remains and associated funerary objects, in consultation with the appropriate Indian tribes, and has determined that there is a likely cultural affiliation between the human remains and associated funerary objects and present-day Indian tribes. Representatives of any Indian tribe that believes itself to be culturally affiliated with the human remains and associated funerary objects may contact National Guard Bureau, Air National Guard, Joint Base Andrews, MD. Repatriation of the human remains to the Indian tribes stated below may occur if no additional claimants come forward.

DATES: Representatives of any Indian tribe that believes it has a cultural affiliation with the human remains should contact the National Guard Bureau, Air National Guard at the address below by March 21, 2013.

ADDRESSES: Melissa Mertz, Natural Resources Program Manager, Air National Guard NGB/A7AN Environmental Branch, 3501 Fetchet Ave., Joint Base Andrews, MD 20762, telephone (240) 612-8427.

SUPPLEMENTARY INFORMATION: Notice is here given in accordance with the Native American Graves Protection and Repatriation Act (NAGPRA), 25 U.S.C. 3003, of the completion of an inventory of human remains and associated funerary objects under the control of the National Guard Bureau, Air National Guard, Joint Base Andrews, MD. The human remains and associated funerary objects were removed from Jefferson County, KY.

This notice is published as part of the National Park Service's administrative responsibilities under NAGPRA, 25 U.S.C. 3003(d) (3). The determinations in this notice are the sole responsibility of the National Guard Bureau, Air National Guard. The National Park Service is not responsible for the determinations in this notice.

Consultation

A detailed assessment of the human remains and associated funerary objects was made by AMEC Environment and Infrastructure professional staff under a contract with the National Guard Bureau, Air National Guard, and in consultation with representatives of the Absentee-Shawnee Tribe of Indians of Oklahoma; Cherokee Nation; Chickasaw Nation; Eastern Band of Cherokee Indians; Eastern Shawnee Tribe of Oklahoma; Quapaw Tribe of Indians; Shawnee Tribe; and the United Keetoowah Band of Cherokee Indians in Oklahoma.

History and Description of the Remains

In 1972 or 1973, human remains representing, at minimum, 96 individuals were removed from site 15JF267, the KYANG site, in Jefferson County, KY, during an authorized runway expansion project. The human remains were recovered from disarticulate burials (at minimum 43 individuals) as well as from formal interments (at minimum 53 individuals). No known individuals were identified. The 32 associated funerary objects are: 1 single bear, deer, and wolf tooth necklace containing drilled canines; 4 drilled canines; 6 bone awls; 9 polished or worked bone tools; 2 polished small mammal mandibles; 1 worked canine; 2 fish spine needles; 1 antler flaker; and 6 chert tools. The human remains and associated funerary objects date to the Middle and Late Archaic periods (B.C. 7000 to 3000).

Cultural affiliation of the collection can reasonably be traced historically between members of present-day Indian tribes and an identifiable earlier group. Based on archeological evidence, geographic location, and oral traditions, site 15JF267 is located within the traditional area of the Cherokee, Chickasaw, Quapaw, and Shawnee people. Today, these people are represented by the Absentee-Shawnee Tribe of Indians of Oklahoma; Cherokee Nation; Chickasaw Nation; Eastern Band of Cherokee Indians; Eastern Shawnee Tribe of Oklahoma; Quapaw Tribe of Indians; Shawnee Tribe; and the United Keetoowah Band of Cherokee Indians in Oklahoma.

Determinations Made by the National Guard Bureau, Air National Guard

Officials of the National Guard Bureau, Air National Guard have determined that:

• Pursuant to 25 U.S.C. 3001 (9), the human remains described in this notice represent the physical remains of 96 individuals of Native American ancestry.

• Pursuant to 25 U.S.C. 3001(2)(A), the 32 objects described above are reasonably believed to have been placed with or near individual human remains at the time of death or later as part of the death rite or ceremony.

• Pursuant to 25 U.S.C. 3001(2), there is a relationship of shared group identity that can be reasonably traced between the human remains and associated funerary objects and the Absentee-Shawnee Tribe of Indians of Oklahoma; Cherokee Nation; Chickasaw Nation; Eastern Band of Cherokee Indians; Eastern Shawnee Tribe of Oklahoma; Quapaw Tribe of Indians; Shawnee Tribe; and the United Keetoowah Band of Cherokee Indians in Oklahoma.

Additional Requestors and Disposition

Representatives of any Indian tribe that believes itself to be culturally affiliated with the human remains and associated funerary objects should contact Melissa Mertz, Natural Resources Program Manager, Air National Guard NGB/A7AN Environmental Branch, 3501 Fetchet Ave., Joint Base Andrews, MD 20762, telephone (240) 612-8427, before March 21, 2013. Repatriation of the human remains and associated funerary objects may proceed after that date if no additional claimants come forward.

The National Guard Bureau, Air National Guard is responsible for notifying the Absentee-Shawnee Tribe of Indians of Oklahoma; Cherokee Nation; Chickasaw Nation; Eastern Band of Cherokee Indians; Eastern Shawnee Tribe of Oklahoma; Quapaw Tribe of Indians; Shawnee Tribe; and the United Keetoowah Band of Cherokee Indians in Oklahoma that this notice has been published.

Dated: January 29, 2013.
Melanie O'Brien,
Acting Manager, National NAGPRA Program.

[FR Doc. 2013-03631 Filed 2-15-13; 8:45 am]

BILLING CODE 4312-50-P